DEPARTMENT OF TRANSPORTATION

Federal Aviation Administration

RTCA Special Committee 192; National Airspace Review Planning and Analysis

Pursuant to section 10(a)(2) of the Federal Advisory Committee Act (Pub. L. 92-463, 5 U.S.C., Appendix 2), notice is hereby given for a Special Committee 192 meeting to be held August 21, 2000, starting at 9 a.m. The meeting will be held at RTCA, Inc., 1140 Connecticut Avenue, NW., Suite 1020, Washington, DC, 20036.

The agenda will be as follows: (1) Welcome and Introductory Remarks; (2) Review/Approve Previous Plenary Minutes; (3) Review resolution of comments matrix for User Priorities for the National Airspace Redesign Document; (4) Review edited User Priorities for the National Airspace Redesign document with the High Altitude Airspace Concept integrated and Approve Document; (5) Review Edited User Recommendations on FAA Order 7400.2, Procedures for Handling Airspace Matters document including Detailed Discussion on Class B and C Airspace Design Specifications and Approve Document; (6) Review Edited Recommendation on Special Use Airspace in National Airspace Redesign Document with the Document Comment Form comments integrated and Approve Document; (7) Date and Location on Next Meeting; (8) Closing.

Attendance is open to the interested public but limited to space availability. With the approval of the chairman, members of the public may present oral statements at the meeting. Persons wishing to present statements or obtain information should contact the RTCA Secretariat, 1140 Connecticut Avenue, NW., Washington, DC, 20036; (202) 833-9339 (phone), (202) 833-9343 (fax), or http://www.rtca.org (web site). Members of the public may present a written statement to the committee at any time.

Issued in Washington, DC, on July 25, 2000.
Janice L. Peters,
Designated Official.

[FR Doc. 00-19534 Filed 8-1-00; 8:45 am]

BILLING CODE 4910-13-M